DEPARTMENT OF THE TREASURY

Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless the information collection displays a currently valid OMB control number. The OCC is soliciting comment concerning its proposed information collection titled, “OCC Communications Questionnaire.” The OCC also gives notice that it has sent the information collection to OMB for review and approval.

DATES: You should submit your comments by May 27, 2005.

ADDRESSES: You should direct your comments to: Communications Division, Office of the Comptroller of the Currency, Public Information Room, Mailstop 1-5, Attention: 1557-0226, 250 E Street, SW., Washington, DC 20219. In addition, comments may be sent by fax to (202) 874-4448, or by electronic mail to regs.comments@occ.treas.gov. You can inspect and photocopy the comments at the OCC's Public Information Room, 250 E Street, SW., Washington, DC 20219. You can make an appointment to inspect the comments by calling (202) 874-5043.

Mark Menchik, OMB Desk Officer, Office of Management and Budget, New Executive Office Building, Room 3208, Washington, DC 20503.

FOR FURTHER INFORMATION CONTACT: You can request additional information or a copy of the collection from Mary Gottlieb, OCC Clearance Officer, or Camille Dixon, (202) 874-5090, Legislative and Regulatory Activities Division. Questions regarding content of the questionnaire should be directed to Oliver Robinson, Communications Division, (202) 874-5533.

SUPPLEMENTARY INFORMATION: The OCC is requesting OMB approval of the following information collection:

Title: OCC Communications Questionnaire.

OMB Number: 1557-0226.

Description: The OCC is proposing to collect information from communication product users regarding the quality, timeliness, and effectiveness of its booklets, issuances, CDs, and Web sites. Completed questionnaires will provide the OCC with information needed to properly evaluate and improve the effectiveness of its paper and electronic communications products. The OCC will use the information to identify problems and to improve its service to national banks.

Type of Review: Revision of a currently approved collection.

Affected Public: Users of electronic and print communication products.

Estimated Number of Respondents: 2,300.

Estimated Total Annual Responses: 4,600.

Frequency of Response: Twice annually.

Estimated Time per Respondent: 10 minutes.

Estimated Total Annual Burden: 767 burden hours.

Stuart Feldstein,
Assistant Director, Legislative and Regulatory Activities Division.

[FR Doc. 05-8397 Filed 4-26-05; 8:45 am]

BILLING CODE 4810-33-M